DEPARTMENT OF COMMERCE

National Oceanic and Atmospheric Administration

50 CFR Part 223

[Docket No. 240919-0246]

RTID 0648-XR137

Endangered and Threatened Wildlife and Plants; Technical Correction for the Coral Fimbriaphyllia paradivisa

AGENCY: National Marine Fisheries Service (NMFS), National Oceanic and Atmospheric Administration (NOAA), Commerce.

ACTION: Direct final rule.

SUMMARY: We, NMFS, announce the revised taxonomy of the coral Euphyllia paradivisa (no common name) under the Endangered Species Act of 1973, as amended (ESA). We are revising the Enumeration of threatened marine and anadromous species for Euphyllia paradivisa to reflect the scientifically accepted taxonomy and nomenclature of this species. We revise the scientific name of the species to Fimbriaphyllia paradivisa. The changes to the taxonomic classification and nomenclature do not affect the species' listing status under the ESA or any protections and requirements arising from its listing.

DATES: The rule is effective December 9, 2024 without further action, unless significnt adverse comment is received by November 8, 2024. If significant adverse comments are received, the NMFS will publish a timely withdrawal of the rule in the Federal Register.

ADDRESSES: You may submit comments on this document, identified by NOAA-NMFS-2024-0078, by the following method:

• Electronic Submission: Submit all electronic public comments via the Federal e-Rulemaking Portal. Go to https://www.regulations.gov and enter NOAA-NMFS-2024-0078 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Lance Smith, NMFS, Pacific Islands Regional Office, 808-725-5131, Lance.Smith@noaa.gov.

SUPPLEMENTARY INFORMATION:

Purpose of This Rule

The purpose of our direct final rule is to notify the public that we are revising the Enumeration of threatened marine and anadromous species (50 CFR 223.102(e)) to reflect the scientifically accepted taxonomy and nomenclature of one coral species, Euphyllia paradivisa, listed under section 4 of the ESA in 2014 (16 U.S.C. 1531 et seq.). The change reflects the most recently accepted scientific name in accordance with 50 CFR 223.102(b).

We are publishing this rule as a direct final rule because this is a noncontroversial action that reflects decisions already taken in the scientific community, such that prior notice and an opportunity to comment is unnecessary. This rule does not change the listing status of the species under the ESA and does not alter any protections afforded the species or any other legal requirements arising from the species' listing under the ESA. This change should be undertaken in as timely a manner as possible. This rule will be effective, as published in this document on the effective date specified in DATES, unless we receive significant adverse comments on or before the comment due date specified in DATES. Significant adverse comments are comments that provide strong scientific justification as to why the taxonomic and nomenclature changes to the Enumeration of the listed entity should not be adopted or why the rule should be changed. Please include sufficient scientific information with your comments that will allow us to verify the basis for any significant adverse comments.

If we receive significant adverse comments, we will publish a notification in the Federal Register withdrawing this rule before the effective date, and we will engage in notice and comment rulemaking under the applicable requirements of the Administrative Procedure Act to promulgate these changes to 50 CFR 223.102(e).

Background

Under 50 CFR 223.102(b), we use the most recently accepted scientific name of any species that we have determined to be threatened under the ESA, relying to the extent practicable on the International Code of Zoological Nomenclature (ICZN). The ESA likewise requires that listing decisions be based solely on the best scientific and commercial data available (see 16 U.S.C. 1533(b)(1)(A)). Using the best available scientific information, our direct final rule documents a taxonomic change (scientific name) to Euphyllia paradivisa. This change is supported by studies published in peer-reviewed journals, acceptance by the World Register of Marine Species, our 5-year Review of the species (NMFS 2024), and broad acceptance by scientists around the world. We revise the scientific name of Euphyllia paradivisa listed under section 4 of the ESA (16 U.S.C. 1531 et seq.) as follows: Fimbriaphyllia paradivisa. We make this change to the Enumeration of threatened marine and anadromous species (50 CFR 223.102(e)) to reflect the most recently accepted scientific name in accordance with 50 CFR 223.102(b).

Taxonomy Classification

Fimbriaphyllia paradivisa

Based on colony growth form, Veron & Pichon (1980) established two subgenera within the genus Euphyllia, namely Euphyllia and Fimbriaphyllia. Veron (1990) described the species Euphyllia paradivisa, placing it in Euphyllia instead of Fimbriaphyllia based on skeletal and tentacle morphological characteristics. More recently, molecular data showed that the species traditionally ascribed to the genus Euphyllia could be separated into two major lineages that were distinct enough to fall within two separate genera (Luzon et al. 2017, Arrigoni et al. 2023). Luzon et al. (2017) demonstrated that these two major lineages, can be distinguished based on the polyp morphology and reproductive traits. As such, Luzon et al. (2017) elevated Fimbriaphyllia from a subgenera within the genus Euphyllia to a separate genus to be composed of five species, namely F. ancora, F. divisa, F. paraancora, F. paradivisa, and F. yaeyamensis; this taxonomic change was supported by the results of Arrigoni et al. (2023). There has been broad acceptance among scientists around the world of the taxonomic change suggested by these studies. This taxonomic change has also been accepted by the World Register of Marine Species (WoRMS), an authoritative and comprehensive registry of marine species that follows ICZN protocols (see https://www.marinespecies.org). (We note that, while the separate ICZN database (ZooBank) is generally a reliable source for taxonomic information, in this instance, the ZooBank is incomplete because it often does not include coral species and marine invertebrates; thus, we are not relying on the ZooBank for evidence of the current, accepted scientific name of this coral species.)

NMFS, therefore, recognizes the taxonomic change and is making technical revisions to 50 CFR 223.102(e) to reflect the most recently accepted scientific name based on the best available scientific information about the listed species. Once the changes to 50 CFR 223.102(e) take effect, the taxonomic change will be incorporated into all new NMFS publications pertaining to the species. This species will continue to be listed as threatened and is subject to the same protections as those that existed prior to these changes. No other aspect of the entry for this species in 50 CFR 223.102(e) will change as a result of this rule.

Required Determinations

The Assistant Administrator for Fisheries finds that good cause exists to waive the requirement for prior notice and opportunity for public comment, pursuant to 5 U.S.C. 553(b)(B). Such procedures would be unnecessary as the taxonomic change made in this rule is technical and reflects decisions already taken in the scientific community. This rule does not change the listing status of this coral species under the ESA, and therefore does not alter the legal protections afforded to the species or any other requirements arising from its listing under the ESA or add any new requirements.

This action is not subject to review under Executive Order (E.O.) 12866. Because a general notice of proposed rulemaking is not required, the analytical requirements of the Regulatory Flexibility Act, 5 U.S.C. 601, et seq., are inapplicable.

This final rule does not contain policies with federalism implications under E.O. 13132. Policies that have federalism implications refers to regulations, legislative comments or proposed legislation, and other policy statements or actions that have substantial direct effects on the States, on the relationship between the National Government and the States, or on the distribution of power and responsibilities among the various levels of government. This final rule does not have federalism implications; therefore, the agency did not follow the additional consultation procedures outlined in E.O. 13132.

This rule does not contain any collections of information that require approval by the Office of Management and Budget under the Paperwork Reduction Act (44 U.S.C. 3501 et seq.). This rule will not impose recordkeeping or reporting requirements on State or local governments, individuals, businesses, or organizations.

E.O. 12898 requires that Federal actions address environmental justice in the decision-making process. In particular, the environmental effects of the actions should not have a disproportionate effect on minority and low-income communities. This rule is not expected to have a disproportionate effect on minority populations or low-income populations.

This final rule makes a taxonomic change relative to a previous listing determination under the ESA to reflect the most recently accepted scientific name based on the best available scientific information about the species' taxonomy and nomenclature. NMFS has concluded that the National Environmental Policy Act (NEPA) does not apply to ESA listing actions, and we conclude that NEPA does not apply to this correction to the identification of the listed species to reflect the best available scientific information (see NOAA Administrative Order 216-6A and the Companion Manual for NOAA Administrative Order 216-6A, regarding Policy and Procedures for Compliance with the National Environmental Policy Act and Related Authorities).

References Cited

A complete list of references is available on our website at: https://www.fisheries.noaa.gov/action/.

List of Subjects in 50 CFR Part 223

Endangered and threatened species.

Dated: October 3, 2024.
Samuel D. Rauch, III,
Deputy Assistant Administrator for Regulatory Programs, National Marine Fisheries Service.

For the reasons set out in the preamble, NMFS amends 50 CFR part 223 as follows:

PART 223—THREATENED MARINE AND ANADROMOUS SPECIES

1. The authority citation for part 223 continues to read as follows:

Authority: 16 U.S.C. 1531 1543; subpart B, § 223.201-202 also issued under 16 U.S.C. 1361 et seq.; 16 U.S.C. 5503(d) for § 223.206(d)(9).

2. In § 223.102, amend the table in paragraph (e), under the heading “Corals” by revising the entry for “Euphyllia paradivisa” to read as follows:

§ 223.102 Enumeration of threatened marine and anadromous species.

* * * * *

(e) * * *

Species ¹: Common name | Species ¹: Scientific name | Species ¹: Description of listed entity | Citation(s) for listing determination(s) | Critical habitat | ESA rules
* * * * * * *
Corals
* * * * * * *
Coral, [no common name] | Fimbriaphyllia paradivisa | Entire species | 79 FR 53852, Sept. 10, 2014 | 226.230 | NA.
* * * * * * *
¹ Species includes taxonomic species, subspecies, distinct population segments (DPSs) (for a policy statement, see 61 FR 4722, February 7, 1996), and evolutionarily significant units (ESUs) (for a policy statement, see 56 FR 58612, November 20, 1991).

[FR Doc. 2024-23317 Filed 10-8-24; 8:45 a.m.]

BILLING CODE 3510-22-P